DEPARTMENT OF TRANSPORTATION

Federal Highway Administration

Supplemental Draft Environmental Impact Statement (SDEIS): Pulaski County, AR

AGENCY: Federal Highway Administration (FHWA), DOT.

ACTION: Notice of Intent to prepare a SDEIS.

SUMMARY: The FHWA is issuing this notice to advise the public that a Supplemental Draft Environmental Impact Statement (SDEIS) will be prepared for a proposed highway project in Pulaski County, Arkansas.

FOR FURTHER INFORMATION CONTACT: Randal J. Looney, Environmental Specialist, Federal Highway Administration, Arkansas Division, 700 West Capitol Avenue, Room 3130, Little Rock, Arkansas, 72201-3298, Telephone: (501) 324-6430.

SUPPLEMENTARY INFORMATION:

Background

The FHWA, in cooperation with the Arkansas Highway and Transportation Department, will prepare a Supplemental Draft Environmental Impact Statement (SDEIS) on a proposal to construct the North Belt Freeway, a four-lane, divided fully controlled access facility located on new alignment in northern Pulaski County, Arkansas. In 1994, a Final Environmental Impact Statement (FEIS) and a Record of Decision (ROD) identified a selected alignment. However, a portion of this alignment was not compatible with the City of Sherwood's Master Street Plan, and the project was not included in the Transportation Improvement Program (TIP) developed by Metroplan, the responsible Metropolitan Planning Organization (MPO).

A preliminary reevaluation of the project alignments completed in 2003 attempted to establish if the local community and MPO could support the originally selected project alternative (1A). The public involvement process associated with this reevaluation indicated public opposition for the originally selected alignment alternative.

The proposed project will primarily serve central Arkansas including Little Rock, North Little Rock, Sherwood, Jacksonville, and northern Pulaski County. Due to the length of time since the project's original Draft (EIS) (13 years) and the changes that have occurred within the study corridor, the entire length of the proposed project will be included in the SDEIS. The SDEIS will function as a reassessment for the proposed freeway project in order to satisfy Federal Highway Administration requirements.

In addition to documenting the engineering and environmental aspects of the new alignment alternative, updating the three previously studied alignment alternatives, and considering other feasible alternatives, the SDEIS will provide a comparative analysis of all feasible alternatives with the primary goal of the identification of a preferred alternative for the entire freeway project from Highway 67 to the I-40/I-430 interchange. This SDEIS evaluation will give consideration to Metroplan's Regional Plans and the City of Sherwood's Land Use Plans and Master Street Plans.

To ensure that the full range of issues related to this proposed action and all significant issues are identified, comments and suggestions are invited from all interested parties regarding the proposed North Belt Freeway. Comments or questions concerning this proposed action should be directed to the FHWA Arkansas Division at the address provided above. FOR FURTHER INFORMATION CONTACT.

(Catalog of Federal Domestic Assistance Program Number 20.205, Highway Planning and Construction. The regulations implementing Executive Order 12372 regarding intergovernmental consultation of Federal programs and activities apply to this program.)

Issued on: April 20, 2004
Sandra L. Otto,
Division Administrator, FHWA Little Rock, Arkansas.

[FR Doc. 04-9383 Filed 4-23-04; 8:45 am]

BILLING CODE 4910-22-M